DEPARTMENT OF LABOR

Employment and Training Administration

[TA-W-57,084]

Kichler Lighting, Cleveland, OH; Notice of Termination of Investigation

Pursuant to Section 221 of the Trade Act of 1974, as amended, an investigation was initiated on May 2, 2005 in response to a petition filed by a state workforce representative on behalf of workers at Kichler Lighting, Cleveland, Ohio.

The petitioner has requested that the petition be withdrawn. Consequently, the investigation has been terminated.

Signed at Washington, DC this 17th day of May, 2005
Elliott S. Kushner,
Certifying Officer, Division of Trade Adjustment Assistance.

[FR Doc. E5-2805 Filed 6-1-05; 8:45 am]

BILLING CODE 4510-30-P